DEPARTMENT OF AGRICULTURE

Agricultural Marketing Service

[Doc. No. AMS-FGIS-20-0067]

United States Standards for Split Peas

AGENCY: Agricultural Marketing Service, USDA.

ACTION: Notice of final action.

SUMMARY: This action is being taken under the authority of the Agricultural Marketing Act of 1946, as amended (AMA). The United States Department of Agriculture's (USDA) Agricultural Marketing Service (AMS) is revising the method of interpretation for the determination of whole peas in the Pea and Lentil Inspection Handbook pertaining to the class “Split Peas,” in the U.S. Standards for Split Peas. Stakeholders in the pea processing/handling industry requested that AMS amend the interpretation of “whole peas” in the Split Pea inspection instructions by increasing the percent tolerance for the factor whole peas.

DATES: Applicability date: June 15, 2021.

FOR FURTHER INFORMATION CONTACT: Loren Almond, USDA AMS; Telephone: (816) 702-3925; Email: Loren.L.Almond@usda.gov.

SUPPLEMENTARY INFORMATION: Under the authority of the AMA (7 U.S.C. 1621-1627), as amended, AMS establishes and maintains a variety of quality and grade standards for agricultural commodities that serve as a fundamental starting point to define commodity quality in the domestic and global marketplace.

Standards developed under the AMA include those for rice, whole dry peas, split peas, feed peas, lentils, and beans. The U.S. Standards for whole dry peas, split peas, feed peas, lentils and beans no longer appear in the Code of Federal Regulations but are now maintained by USDA-AMS-Federal Grain Inspection Service (AMS-FGIS). The U.S. Standards for split peas are voluntary and widely used in private contracts, government procurement, marketing communication, and for some commodities, consumer information.

The split pea standards facilitate pea marketing and define U.S. pea quality in the domestic and global marketplace. The standards define commonly used industry terms; contain basic principles governing the application of standards such as the type of sample used for a particular quality analysis; explain the basis of determination; and specify grades and grade requirements. Official procedures for determining grading factors are provided in the Pea and Lentil Inspection Handbook. Together, the grading standards and testing procedures allow buyers and sellers to communicate quality requirements, compare pea quality using equivalent forms of measurement, and assist in price discovery.

AMS engages in outreach with stakeholders to ensure commodity standards maintain relevance to the modern market. Pea industry stakeholders include the USA Dry Pea and Lentil Council (USADPLC), a national organization of producers, processors, and exporters of U.S. dry peas, lentils, and chickpeas; the U.S. Pea and Lentil Trade Association (USPLTA), a national association representing processors, traders, handlers and merchandisers, and transporters in the pea, lentil and chickpea industry; and, other handlers and merchandisers.

The United States Standards for Split Peas and the official inspection procedures for Split Peas in the Pea and Lentil Handbook are available on the AMS public website. The United States Standards for Peas were last revised in 2009. A “whole pea” is defined as “any pea which is 55 percent or more of a whole pea.” Industry stakeholders told AMS it is difficult to meet split pea contract specifications due to the strict standards required to achieve a “split pea” based on the current tolerance of a “whole pea.” Stakeholders asked AMS to revise the tolerance for whole pea in the class Split Peas.

Revision of Split Pea Tolerances for Whole Peas

Stakeholders recommended AMS revise the Pea and Lentil Inspection Handbook tolerance for whole peas. AMS and stakeholders worked collaboratively to redefine the tolerances for whole peas in Split Peas. Additionally, these changes were recommended to AMS by the stakeholder organizations identified above to facilitate the current marketing practices.

Comment Review

AMS published a Notice in the Federal Register on September 29, 2020 (85 FR 60955), inviting interested parties to comment on the proposed revision to the whole pea determination for Split Peas. AMS received four comments in response to the notice. One comment strongly supported the proposed revision. AMS received no comments opposing the proposed revision. AMS received three comments that were not germane to the issue. AMS believes this revision will facilitate marketing of split peas and better reflect current marketing practices. The revision becomes effective upon publication in the Federal Register, and the Pea and Lentil Inspection Handbook will be revised to incorporate the revision to the standards.

Final Action

AMS-FGIS is revising split pea inspection criteria in the Pea and Lentil Inspection Handbook by increasing the percent needed for a split pea to be considered a whole pea from 55 percent or more to 60 percent or more. Therefore, a “whole pea” is any pea which is 60 percent or more of a whole pea.

Authority: 7 U.S.C. 1621-1627.

Erin Morris,
Associate Administrator, Agricultural Marketing Service.

[FR Doc. 2021-12569 Filed 6-14-21; 8:45 am]

BILLING CODE P